DEPARTMENT OF HEALTH AND HUMAN SERVICES

Centers for Disease Control and Prevention

Office for State, Tribal, Local, and Territorial Support

In accordance with Presidential Executive Order No. 13175, November 6, 2000, and the Presidential Memorandum of November 5, 2009 and September 23, 2004, Consultation and Coordination with Indian Tribal Governments, CDC, OSTLTS announces the following meeting and Tribal Consultation Session:

Name: Tribal Advisory Committee (TAC) Meeting and 7th Biannual Tribal Consultation Session.

Times and Dates:

8:30 a.m.-5 p.m., August 22-23, 2011 (TAC Meeting).

8:30 a.m.-4 p.m., August 24, 2011 (7th Biannual Tribal Consultation Session).

Place: Suquamish Clearwater Casino Resort, 15347 Suquamish Way, NE., Suquamish, Washington 98392.

Status: All meetings are being hosted by the Northwest Portland Area Indian Health Board and are open to the public. August 23, 2011, has been reserved as a day to tour and interact with local Tribes. A special invitation has been extended to the Washington and Oregon American Indian Tribal Leaders, Washington and Oregon State Health Department Officials, and all American Indian/Alaska Native (AI/AN) Tribal leaders from across the nation.

Purpose: CDC released its Tribal Consultation Policy in October of 2005 with the primary purpose of providing guidance across the agency to work effectively with AI/AN tribes, communities, and organizations to enhance AI/AN access to CDC resources and programs. In November of 2006, an Agency Advisory Committee (the CDC/Agency for Toxic Substances and Disease Registry Tribal Advisory Committee—TAC) was established to provide a complementary venue wherein tribal representatives and CDC staff could exchange information about public health issues in Indian Country, identifying urgent public health needs in AI/AN communities, and discuss collaborative approaches to these issues and needs. Within the CDC Consultation Policy, it is stated that CDC will conduct government-to-government consultation with elected tribal officials or their designated representatives and confer with tribal and American Native organizations and AI/AN urban and rural communities before taking actions and or making decisions that affect them.

Consultation is an enhanced form of communication that emphasizes trust, respect, and shared responsibility. It is an open and free exchange of information and opinion among parties that leads to mutual understanding and comprehension. CDC believes that consultation is integral to a deliberative process that results in effective collaboration and informed decision making with the ultimate goal of reaching consensus on issues. Although formal responsibility for the agency's overall government-to-government consultation activities rests within the CDC Office of the Director (OD), other CDC Centers, Institutes, and Offices, leadership shall actively participate in TAC meetings and HHS-sponsored regional and national tribal consultation sessions as frequently as possible.

Matters to be Discussed: The TAC will convene their advisory committee meeting with discussions and presentations from various CDC senior leaderships on activities and areas identified by TAC members and other tribal leaders as priority public health issues. The Biannual Tribal Consultation Session will engage CDC Senior leadership from the CDC OD and various CDC Centers, Institutes and Offices, including the Financial Management Office, the Office of the Associate Director of Communications, OSTLTS, the National Center for Environmental Health and the Agency for Toxic Substances and Disease Registry, the National Center for Chronic Disease Prevention and Health Promotion, as well as others. Opportunities will be provided during the consultation session for tribal testimony. Tribal Leaders are encouraged to submit written testimony by close of business on August 5, 2011, to the contact person listed below.

It may be necessary to limit the time of each presenter due to the availability of time.

The agenda is subject to change as priorities dictate.

Information about TAC and CDC's Tribal Consultation Policy and previous meetings may be referenced on the following Web link: http://www.cdc.gov/ostlts/tribal_public_health/announcements.html.

Contact Person for more Information: Kimberly Cantrell, Public Health Advisor, Tribal Support, OSTLTS, CDC, 1600 Clifton Road, NE., MS K-70, Atlanta, Georgia 30333, telephone (404) 498-0411, e-mail: KLW6@cdc.gov.

The Director, Management Analysis and Services Office has been delegated the authority to sign Federal Register notices pertaining to announcements of meetings and other committee management activities, for both the Centers for Disease Control and Prevention, and the Agency for Toxic Substances and Disease Registry.

Dated: June 24, 2011.
Elaine L. Baker,
Director, Management Analysis and Services Office, Centers for Disease Control and Prevention.

[FR Doc. 2011-16558 Filed 6-30-11; 8:45 am]

BILLING CODE 4163-18-P